DEPARTMENT OF COMMERCE

International Trade Administration

[A-588-866]

Superalloy Degassed Chromium From Japan: Final Results of Sunset Review and Revocation of Antidumping Duty Order

AGENCY: Import Administration, International Trade Administration, Department of Commerce.

SUMMARY: On November 1, 2010, the Department of Commerce (the Department) initiated the sunset review of the antidumping duty order on superalloy degassed chromium (SDC) from Japan. See Initiation of Five-Year (“Sunset”) Review, 75 FR 67082 (November 1, 2010) (Initiation Notice). Because no domestic interested party responded to the notice of initiation of the sunset review by the applicable deadline, the Department is revoking the antidumping duty order on SDC from Japan.

DATES: Effective Date: December 22, 2010.

FOR FURTHER INFORMATION CONTACT: Jerrold Freeman at (202) 482-0180 or Minoo Hatten at (202) 482-1690, AD/CVD Operations, Office 5, Import Administration, International Trade Administration, U.S. Department of Commerce, 14th Street and Constitution Avenue, NW., Washington, DC 20230.

SUPPLEMENTARY INFORMATION:

Background

On December 22, 2005, the Department published in the Federal Register the antidumping duty order on SDC from Japan. See Antidumping Duty Order: Superalloy Degassed Chromium from Japan, 70 FR 76030 (December 22, 2005).

On November 1, 2010, the Department initiated a sunset review of the antidumping duty order on SDC from Japan pursuant to section 751(c) of the Tariff Act of 1930, as amended (the Act). See Initiation Notice. We received no response to the notice of initiation from domestic interested parties by the applicable deadline date. See 19 CFR 351.218(d)(1)(i). As a result, the Department has concluded that no domestic party intends to participate in the sunset review. See 19 CFR 351.218(d)(1)(iii)(A). On November 22, 2010, we notified the International Trade Commission, in writing, that we intend to revoke the antidumping duty order on SDC from Japan. See 19 CFR 351.218(d)(1)(iii)(B)(2).

Scope of the Order

The product covered by the order is all forms, sizes, and grades of SDC from Japan. SDC is a high-purity form of chrome metal that generally contains at least 99.5 percent, but less than 99.95 percent, chromium. SDC contains very low levels of certain gaseous elements and other impurities (typically no more than 0.005 percent nitrogen, 0.005 percent sulphur, 0.05 percent oxygen, 0.01 percent aluminum, 0.05 percent silicon, and 0.35 percent iron). SDC is generally sold in briquetted form, as “pellets” or “compacts,” which typically are 1.5 inches x 1 inch x 1 inch or smaller in size and have a smooth surface. SDC is currently classifiable under subheading 8112.21.00 of the Harmonized Tariff Schedule of the United States (HTSUS). The order covers all chromium meeting the above specifications for SDC regardless of tariff classification.

Certain higher-purity and lower-purity chromium products are excluded from the scope of the order. Specifically, the order does not cover electronics-grade chromium, which contains a higher percentage of chromium (typically not less than 99.95 percent), a much lower level of iron (less than 0.05 percent), and lower levels of other impurities than SDC. The order also does not cover “vacuum melt grade” chromium, which normally contains at least 99.4 percent chromium and contains a higher level of one or more impurities (nitrogen, sulphur, oxygen, aluminum and/or silicon) than specified above for SDC.

Although the HTSUS subheading is provided for convenience and customs purposes, the written description of the scope of the order is dispositive.

Revocation

Pursuant to section 751(c)(3)(A) of the Act and 19 CFR 351.218(d)(1)(iii)(B)(3), if no domestic interested party files a notice of intent to participate, the Department shall issue a final determination revoking the order within 90 days of the initiation of the review. Because no domestic interested party filed a timely notice of intent to participate in this sunset review, the Department finds that no domestic interested party is participating in this sunset review. Therefore, we are revoking the antidumping duty order on SDC from Japan. The effective date of revocation is December 22, 2010, the fifth anniversary of the antidumping duty order.

Effective Date of Revocation

Pursuant to section 751(c)(3)(A) of the Act and 19 CFR 351.222(i)(2)(i), the Department intends to issue instructions to U.S. Customs and Border Protection, 15 days after publication of this notice, to terminate the suspension of liquidation of the merchandise subject to the order which was entered, or withdrawn from warehouse, for consumption on or after December 22, 2010. Entries of subject merchandise prior to the effective date of revocation will continue to be subject to the suspension of liquidation and antidumping duty deposit requirements. The Department is not conducting any administrative reviews of this order currently but it will conduct an administrative review of the order with respect to subject merchandise entered prior to the effective date of revocation in response to appropriately filed requests for review.

This five-year (sunset) review and notice are published in accordance with sections 751(c) and 777(i)(1) of the Act.

Dated: December 16, 2010.
Ronald K. Lorentzen,
Deputy Assistant Secretary for Import Administration.

[FR Doc. 2010-32172 Filed 12-21-10; 8:45 am]

BILLING CODE 3510-DS-P